COMMISSION ON CIVIL RIGHTS

Agenda and Notice of Public Meeting of the Alabama, Arkansas, Louisiana, and Mississippi State Advisory Committees

Notice is hereby given, pursuant to the provisions of the rules and regulations of the U.S. Commission on Civil Rights, that a conference call of the Alabama, Arkansas, Louisiana, and Mississippi Advisory Committees will convene at 1:30 p.m. (c.s.t.) and adjourn at 3 p.m. on Thursday, March 11, 2004. The purpose of the conference call is to discuss the briefing transcript from the “Southern Listening Tour” and to plan for a future face-to-face meeting.

This conference call is available to the public through the following call-in number: 1-800-923-4213, access code number 21980538. Any interested member of the public may call this number and listen to the meeting. Callers can expect to incur charges for calls not initiated using the supplied call-in number or made over wireless lines and the Commission will not refund any incurred charges. Callers will incur no charge for calls using the call-in number over land-line connections. Persons with hearing impairments may also follow the proceedings by first calling the Federal Relay Service at 1-800-977-8339 and providing the Service with the conference call number and access code number.

To ensure that the Commission secures an appropriate number of lines for the public, persons are asked to register by contacting Jo Ann Daniels of the Central Regional Office at 913-551-1400 and TDD 913-551-1414, by 2 p.m. (c.s.t.) on Friday, March 5, 2004.

The meeting will be conducted pursuant to the provisions of the rules and regulations of the Commission.

Dated at Washington, DC, February 24, 2004.
Dawn Sweet,
Editor.

[FR Doc. 04-4751 Filed 3-2-04; 8:45 am]

BILLING CODE 6335-01-P